DEPARTMENT OF TRANSPORTATION

Federal Railroad Administration

49 CFR Parts 222 and 229

[Docket No. FRA-1999-6439, Notice No. 5; Docket No. FRA-1999-6440]

RIN 2130-AA71

Use of Locomotive Horns at Highway-Rail Grade Crossings

AGENCY: Federal Railroad Administration (FRA), Department of Transportation (DOT).

ACTION: Technical conference on proposed rule.

SUMMARY: On January 13, 2000 (65 FR 2230), FRA published a Notice of Proposed Rulemaking (NPRM) on the Use of Locomotive Horns at Highway-Rail Grade Crossings (Docket No. FRA-1999-6439). On the same date FRA released a Draft Environmental Assessment (DEIS)(Docket No. FRA-1999-6440) pertaining to the proposals contained in the NPRM. A number of public hearings in these proceedings have been held throughout the country, and more have been scheduled prior to the close of the comment period on May 26, 2000. FRA has determined that, in addition to the public hearings, a technical conference addressing locomotive horn acoustics would be helpful to FRA in developing a final rule in this proceeding. Accordingly, FRA is scheduling a technical conference on locomotive horn acoustics to be held on May 10, 2000, in Washington, DC.

DATES: 1. A technical conference will be held on Wednesday, May 10, 2000 beginning at 9:00 a.m.

2. Deadline to register for participation in the technical conference is close of business on Friday, May 5, 2000. Please see Public Participation Procedures in SUPPLEMENTARY INFORMATION section of this document for registration details.

ADDRESSES: 1. Technical conference: FRA Headquarters, 7th floor conference room, 1120 Vermont Avenue, NW, Washington, DC.

2. FRA Docket Clerk: Federal Railroad Administration Docket Clerk, Office of Chief Counsel, Mail Stop 10, FRA, 1120 Vermont Avenue, NW, Washington, DC 20590. E-mail address for the FRA Docket Clerk is renee.bridgers@fra.dot.gov.

SUPPLEMENTARY INFORMATION:

Technical Conference

The technical conference is meant to address specific technical issues that might not be addressed in written comments or through oral comments presented at public hearings. The issues to be addressed will focus on the technical attributes of, variations to, and potential modifications of train horns. Among the issues which may be discussed are tone and decibel levels, sound dispersion and direction, horn placement and shrouding, horn sounding sequence and duration, and whistle board placement and positive train control (as it relates to horn use). Additional subjects within the scope of locomotive horn acoustics may be also be addressed. A transcript of the technical conference will be taken and placed in the public docket of this proceeding.

Public Participation Procedures

Any person wishing to participate in the technical conference should notify the FRA Docket Clerk by mail or by e-mail by close of business on May 5, 2000. The notification of intent to participate should identify the organization the person represents (if any), the names of all participants from that organization planning to participate, and a phone number at which the registrant can be reached. FRA reserves the right to limit active conference participation to those persons who have registered in advance.

Issued in Washington, DC on April 18, 2000.
Grady C. Cothen, Jr.,
Deputy Associate Administrator for Safety Standards and Program Development.

[FR Doc. 00-10043 Filed 4-20-00; 8:45 am]

BILLING CODE 4910-06-P